SMALL BUSINESS ADMINISTRATION

[Declaration of Disaster #3422]

State ofF Indiana; Amendment #3

In accordance with a notice received from the Federal Emergency Management Agency, dated July 15, 2002, the above numbered declaration is hereby amended to include Dearborn and Orange Counties in the State of Indiana as disaster areas due to damages caused by severe storms, tornadoes and flooding occurring April 28, 2002 through June 7, 2002.

In addition, applications for economic injury loans from small businesses located in the following contiguous counties may be filed until the specified date at the previously designated location: Franklin and Ohio Counties in Indiana; Boone County in Kentucky; and Butler and Hamilton Counties in Ohio. All other contiguous counties have been previously declared.

The economic injury number assigned to Ohio is 9Q6100.

All other information remains the same, i.e., the deadline for filing applications for physical damage is August 12, 2002, and for economic injury the deadline is March 13, 2003.

(Catalog of Federal Domestic Assistance Program Nos. 59002 and 59008)

Dated: July 17, 2002.
S. George Camp,
Acting Associate Administrator for Disaster Assistance.

[FR Doc. 02-18768 Filed 7-24-02; 8:45 am]

BILLING CODE 8025-01-P